DEPARTMENT OF HOMELAND SECURITY

U.S. Citizenship and Immigration Services

Agency Information Collection Activities: Extension of a Currently Approved Information Collection; Comment Request

ACTION: 30-day notice of information collection under review; Application for Waiver of Grounds of Excludability, form I-690.

The Department of Homeland Security, U.S. Citizenship and Immigration Service (USCIS) has submitted the following information collection request to the Office of Management and Budget (OMB) for review and clearance in accordance with the Paperwork Reduction Act of 1995. The information collection was previously published in the Federal Register on June 22, 2005 at 70 FR 36203, allowed for a 60-day public comment period. No comments were received by the USCIS on this information collection.

The purpose of this notice is to allow an additional 30 days for public comments. Comments are encouraged and will be accepted until September 28, 2005. This process is conducted in accordance with 5 CFR 1320.10.

Written comments and suggestions from the public and affected agencies concerning the collection of information should address one or more of the following four points:

(1) Evaluate whether the collection of information is necessary for the proper performance of the functions of the agency, including whether the information will have practical utilituy;

(2) Evaluate the accuracy of the agency's estimate of the burden of the collection of information, including the validity of the methodology and assumtpions used;

(3) Enhance the quality, utility, and clarity of the information to be collected; and

(4) Minimize the burden of the collection of information on those who are to respond, including through the use of appropriate automated, electronic, mechanical, or other technological colleciton techniques or other forms of information technology, e.g., permitting electronic submission of responses.

Overview of this information collection:

(1) Type of Information Collection: Extension of currently approved collection.

(2) Title of the Form/Collection: Application for Waiver of Grounds of Excludability.

(3) Agency form number, if any, and the applicable component of the Department of Homeland Security sponsoring the Collection: Form I-690, U.S. Citizenship and Immigration Services.

(4) Affected public who will be asked or requirfed to respond, as well as a brief abstract: Primary: Individuals or Households. The information collected on the application will be used by the USCIS in considering eligibility for legalization under section 210 and 245A of the Immigration and Nationality Act.

(5) An estimate of the total number of respondents and the amount of time estimated for an average respondent to respond: 85 responses at 15 minutes (.25 hours) per response.

(6) An estimate of the total public burden (in hours) associated with the collection: 21 annual burden hours.

In you have additional comments, suggestions, or need a copy of the information collection instrument with instructions, or additional information, please contact Richard A. Sloan, Director, Regulatory Management Division, U.S. Citizenship and Immigration Services, U.S. Department Homeland Security, 111 Massachusetts Avenue, NW., Washington, DC 20592, (202) 272-8377.

Dated: August 24, 2005.
Richard A. Sloan,
Director, Regulatory Management Division, U.S. Citizenship and Immigration Services.

[FR Doc. 05-17146 Filed 8-26-05; 8:45 am]

BILLING CODE 4410-10-M